INTERNATIONAL TRADE COMMISSION

[Investigation No. 731-TA-932 (Review)]

Certain Folding Metal Tables and Chairs From China

Determinations

On the basis of the record ¹ developed in the subject five-year review, the United States International Trade Commission (Commission) determines, pursuant to section 751(c) of the Tariff Act of 1930 (19 U.S.C. 1675(c)), that revocation of the antidumping duty order on certain folding metal tables and certain folding metal chairs from China would be likely to lead to continuation or recurrence of material injury to industries in the United States within a reasonably foreseeable time.

¹ The record is defined in sec. 207.2(f) of the Commission's Rules of Practice and Procedure (19 CFR § 207.2(f)).

Background

The Commission instituted this review on May 1, 2007 (72 FR 23799) and determined on August 6, 2007 that it would conduct an expedited review (72 FR 46245, August 17, 2007). Notice of the scheduling of the Commission's review was given by posting copies of the notice in the Office of the Secretary, U.S. International Trade Commission, Washington, DC, and by publishing the notice in the Federal Register on August 17, 2007 (72 FR 46245).

The Commission transmitted its determinations in this review to the Secretary of Commerce on September 28, 2007. The views of the Commission are contained in USITC Publication 3952 (September 2007), entitled Certain Folding Metal Tables and Chairs from China: Investigation No. 731-TA-932 (Review).

Issued: October 18, 2007.
By order of the Commission.
Marilyn R. Abbott,
Secretary to the Commission.

[FR Doc. E7-20904 Filed 10-23-07; 8:45 am]

BILLING CODE 7020-02-P